DEPARTMENT OF COMMERCE

National Oceanic and Atmospheric Administration

RIN 0648-XD538

Fisheries of the South Atlantic; South Atlantic Fishery Management Council; Public Meeting

AGENCY: National Marine Fisheries Service (NMFS), National Oceanic and Atmospheric Administration (NOAA), Commerce.

ACTION: Notice of workshop and meeting.

SUMMARY: The South Atlantic Fishery Management Council (SAFMC) will hold a workshop and meeting of its Scientific and Statistical Committee (SSC). See SUPPLEMENTARY INFORMATION.

DATES: The SSC will hold an Acceptable Biological Catch (ABC) Control Rule Workshop, 1 p.m. to 5 p.m. on Monday, October 27, 2014 and 9 a.m. to 12 p.m. on Tuesday, October 28, 2014. The SSC will meet 1 p.m. to 6 p.m. on Tuesday, October 28, 2014; 9 a.m. to 6 p.m. on Wednesday, October 29, 2014; and 9 a.m. to 3 p.m. on Thursday, October 30, 2014.

ADDRESSES: Meeting address: The meetings and workshop will be held at the Crowne Plaza Airport Hotel, 4831 Tanger Outlet Boulevard, North Charleston, SC 29418; telephone: (800) 503-5762 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: The following items will be discussed by the SSC during this meeting:

SSC ABC Control Rule Workshop, Monday, October 27, 2014, 1 p.m. Until Tuesday, October 28, 2014, 12 p.m.

1. Review ABC Control rule performance.

2. Consider ABC Control rule modifications.

SSC Meeting, Tuesday, October 28, 2014, 1 p.m. until Thursday, October 30, 2014, 3 p.m.

1. Receive an updates on recent Southeast Data, Assessment and Review (SEDAR) stock assessment program activities, the Marine Recreational Information Program (MRIP) Calibration Workshop II and the National SSC Workshop.

2. Receive a report on the ABC Control Rule Workshop and consider ABC Control Rule modifications.

3. Review stock assessments of hogfish, mutton snapper and king mackerel and develop fishing level recommendations.

4. Review Snapper-Grouper Regulatory Amendment 16.

5. Review bag limit analytical methods and application to gag grouper.

6. Receive updates and progress reports on other ongoing projects and fishery management plan amendments.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m. Tuesday, October 21, 2014. Two opportunities for comment on agenda items will be provided during SSC meetings and noted on the agenda. The first will be at the beginning of the meeting, and the second near the conclusion, when the SSC reviews its recommendations.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: October 6, 2014.
Tracey L. Thompson,
Acting Deputy Director, Office of Sustainable Fisheries, National Marine Fisheries Service.

[FR Doc. 2014-24128 Filed 10-8-14; 8:45 am]

BILLING CODE 3510-22-P